FEDERAL COMMUNICATIONS COMMISSION

47 CFR Parts 2, 15, 25, 27, and 101

[WT Docket No. 20-443; GN Docket No. 17-183; DA 21-370; FR ID 20758]

Expanding Flexible Use of the 12.2-12.7 GHz Band

AGENCY: Federal Communications Commission.

ACTION: Proposed rule, extension of comment and reply comment period.

SUMMARY: In this document, the Federal Communications Commission (Commission) extends the comment and reply comment period of the Notice of the Proposed Rulemaking of the proceeding that was released on January 15, 2021.

DATES: The deadline for filing comments is extended to May 7, 2021, and the deadline for filing reply comments is extended to June 7, 2021.

ADDRESSES: You may submit comments, identified by WT Docket No. 20-443 and GN Docket No. 17-183, by any of the following methods:

• Electronic Filers: Comments may be filed electronically using the internet by accessing the ECFS: https://www.fcc.gov/ecfs.

• Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19.

• During the time the Commission's building is closed to the general public and until further notice, if more than one docket or rulemaking number appears in the caption of a proceeding, paper filers need not submit two additional copies for each additional docket or rulemaking number; an original and one copy are sufficient.

People With Disabilities: To request materials in accessible formats for people with disabilities (braille, large print, electronic files, audio format), send an email to fcc504@fcc.gov or call the Consumer & Governmental Affairs Bureau at 202-418-0530 (voice), 202-418-0432 (tty).

FOR FURTHER INFORMATION CONTACT: Madelaine Maior of the Wireless Telecommunications Bureau, Broadband Division, at 202-418-1466 or Madelaine.Maior@fcc.gov; or Simon Banyai of the Wireless Telecommunications Bureau, Broadband Division, at 202-418-1443 or Simon.Banyai@fcc.gov.

SUPPLEMENTARY INFORMATION: This is a summary of the Commission's Order in WT Docket No. 20-443; DA 21-370, adopted and released March 29, 2021. The full text of this document,¹ visit FCC's website at https://docs.fcc.gov/public/attachments/FCC-21-13A1.pdf or via the FCC's Electronic Comment Filing System (ECFS) website at http://www.fcc.gov/ecfs. (Documents will be available electronically in ASCII, Microsoft Word, and/or Adobe Acrobat.) Alternative formats are available for people with disabilities (braille, large print, electronic files, audio format), by sending an email to fcc504@fcc.gov or calling the Commission's Consumer and Governmental Affairs Bureau at (202) 418-0530 (voice), (202) 418-0432 (TTY).

¹ Expanding Flexible Use of the 12.2-12.7 GHz Band, Order, DA 21-370.

I. Background

1. On January 15, 2021, the Commission released a NPRM seeking input on the feasibility of allowing flexible-use services in the 12.2-12.7 GHz band (12 GHz band) while protecting incumbents from harmful interference.² The NPRM set deadlines for filing comments and reply comments of April 7, 2021, and May 7, 2021, respectively.

² See Expanding Flexible Use of the 12.2-12.7 GHz Band, et al., WT Docket No. 20-443, Notice of Proposed Rulemaking, FCC 21-13, 2021 WL 228049 (Jan. 15, 2021) (NPRM). The comment and reply comment deadlines were set at 30 and 60 days after publication in the Federal Register, which occurred on March 8, 2021. See Federal Communications Commission, Expanding Flexible Use of the 12.2-12.7 GHz Band, 86 FR 13266 (Mar. 8, 2021).

2. On March 19, 2021, the Computer & Communications Industry Association (CCIA), INCOMPAS, Open Technology Institute at New America, and Public Knowledge (“Movants”) filed a motion for a 30-day extension of the these filing deadlines, such that comments would be due May 7, 2021, and reply comments would be due June 7, 2021.³ The Movants state that the NPRM solicits comment on important factual, legal, technical and policy issues that require thorough analyses from engineers, lawyers, and consultants and will take time to substantively address.⁴ Movants further assert that no party will be prejudiced by granting the Motion and that authorizing additional time potentially will allow all interested parties to (1) more fully develop their responses to the Commission's NPRM, leading to a better record; and (2) more fully explore the applicability to the 12 GHz band of sharing solutions developed for use in other frequency bands.⁵ The Movants aver that good cause exists for granting the Motion and that doing so would be consistent with past precedent.⁶ Parties filing responses to this Motion (Respondents) either support or do not object to a 30-day extension and no opposition has been filed.⁷

³ See Motion of CCIA et al. for Extension of Time, WT Docket No. 20-443, et al., at 1 (filed Mar. 19, 2021), https://ecfsapi.fcc.gov/file/103190996020555/Joint%20Motion%20for%20Extension%20-%2012%20GHz%20(3.19.21).pdf (Motion).

⁴ Id. at 2-3 (Movants state that that this is especially so for organizations that represent an array of interests that also have been working diligently on the implementation of COVID-19-relief programs that are critical for the nation).

⁵ Id.

⁶ Id. & n.7 (citing Implementation of State and Local Governments' Obligation to Approve Certain Wireless Facility Modification Requests Under § 6409(a) of the Spectrum Act of 2012; Accelerating Wireline Broadband Deployment by Removing Barriers to Infrastructure Investment, Order Granting Extension of Time, 34 FCC Rcd 8660, 8660, para. 3 (2019)); see also id. at 2-3 & n.8 (citing Commission Staff Requests That Interested Parties Supplement the Record on Draft Interference Rules for Wireless Communications Service and Satellite Digital Audio Radio Service, Order Extending Comment Period, 25 FCC Rcd 3642, 3643-44, para. 5 (2010)).

⁷ See Ruth Pritchard-Kelly, Senior Advisor, ONEWEB, et al., (“12 GHz Alliance”) to Marlene H. Dortch, Secretary, FCC, at 1 (Mar. 23, 2021); David Goldman, Director of Satellite Policy, Space Exploration Technologies Corp., to Marlene H. Dortch, Secretary, FCC, at 1 (Mar. 22, 2021). The 12 GHz Alliance does not object to the Motion but requests suspension of comment and reply comment deadlines until RS Access, LLC, provides certain technical analyses referenced in a filing by RS Access. See, e.g., Letter from Trey Hanbury, Counsel to RS Access, LLC, to Marlene H. Dortch, Secretary, FCC, WT Docket No. 20-443, Attachment at 1 (filed Feb. 8, 2021) (stating that its “preliminary engineering analysis indicates that spectrum sharing with SpaceX and other NGSO FSS licensees is feasible”); Letter from Trey Hanbury, Counsel to RS Access, LLC, to Marlene H. Dortch, Secretary, FCC, WT Docket No. 20-443, at 3 (filed Feb. 26, 2021); Letter from Trey Hanbury, Counsel to RS Access, LLC, to Marlene H. Dortch, Secretary, FCC, WT Docket No. 20-443, at 2 (filed Feb. 19, 2021); Letter from Trey Hanbury, Counsel to RS Access, LLC, to Marlene H. Dortch, Secretary, FCC, WT Docket No. 20-443, at 2 (filed Mar. 15, 2021). The Commission declines to take this action, which may be rendered moot by its grant of the instant Motion.

3. The Commission grants the Motion for Extension of Time. As set forth in § 1.46 of the Commission's rules,⁸ the Commission does not routinely grant extensions of time for filing comments in rulemaking proceedings. In this case, however, The Commission finds good cause for granting an extension of the comment and reply comment periods for reasons identified by the Movants and the Respondents. Specifically, the Commission concludes that extension of the comment and reply deadlines to May 7, 2021, and June 7, 2021, respectively, is warranted to provide commenters with additional time to prepare comments and reply comments that fully respond to the complex economic, engineering, and policy issues raised in the NPRM.

⁸ 47 CFR 1.46.

II. Ordering Clauses

4. Accordingly, it is ordered that, pursuant to § 4(i) of the Communications Act of 1934, as amended, 47 U.S.C. 154(i), and 0.131, 0.331, and 1.46 of the Commission's rules, 47 CFR 0.131, 0.331, and 1.46, the Motion for Extension of Time filed by CCIA, INCOMPAS, Open Technology Institute at New America, Public Knowledge is granted.

5. It is further ordered that the deadlines to file comments and reply comments in this proceeding are granted to May 7, 2021, and June 7, 2021, respectively.

List of Subjects in 47 CFR Parts 2, 15, 25, 27 and 101

Communications equipment, Radio, Reporting and recordkeeping requirements.

Federal Communications Commission.
Amy Brett,
Acting Chief of Staff, Wireless Telecommunications Bureau.

[FR Doc. 2021-07816 Filed 4-15-21; 8:45 am]

BILLING CODE 6712-01-P